DEPARTMENT OF EDUCATION

Office of Safe and Drug-Free Schools—Grants for School-Based Student Drug-Testing Programs

AGENCY: Office of Safe and Drug-Free Schools, Department of Education.

ACTION: Notice of proposed eligibility and application requirements, priorities, and selection criteria.

SUMMARY: The Assistant Deputy Secretary for Safe and Drug-Free Schools proposes eligibility and application requirements, priorities, and selection criteria under Safe and Drug-Free Schools and Communities National Programs for the School-Based Student Drug-Testing Programs. The Assistant Deputy Secretary may use these requirements, priorities, and selection criteria for competitions in fiscal year 2005 and later years. We take this action to focus Federal financial assistance on an identified national need. We intend for these priorities to increase the use of drug testing as a means to deter student drug use.

DATES: We must receive your comments on or before May 23, 2005.

ADDRESSES: Address all comments about these requirements, priorities, and selection criteria to Robyn L. Disselkoen or Sigrid Melus, U.S. Department of Education, 400 Maryland Avenue, SW., Washington, DC 20202-6450. If you prefer to send your comments through the Internet, use the following address: OSDFSdrugtesting@ed.gov.

You must include the term “Comments on FY 2005 Student Drug-Testing Notice” in the subject line of your electronic message.

FOR FURTHER INFORMATION CONTACT: Robyn Disselkoen or Sigrid Melus at (202) 260-3954.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed requirements, priorities, and selection criteria.

We invite you to assist us in complying with the specific requirements of Executive Order 12866 and its overall requirement of reducing regulatory burden that might result from these proposed requirements, priorities, and selection criteria. Please let us know of any further opportunities we should take to reduce potential costs or increase potential benefits while preserving the effective and efficient administration of the program.

During and after the comment period, you may inspect all public comments about these proposed requirements, priorities, and selection criteria in room 3E253, 400 Maryland Avenue, SW., Washington DC, between the hours of 8:30 a.m. and 4 p.m., Washington, DC time, Monday through Friday of each week except Federal holidays.

Assistance to Individuals With Disabilities in Reviewing the Rulemaking Record

On request, we will supply an appropriate aid, such as a reader or print magnifier, to an individual with a disability who needs assistance to review the comments or other documents in the public rulemaking record for these proposed requirements, priorities, and selection criteria. If you want to schedule an appointment for this type of aid, please contact one of the persons listed under FOR FURTHER INFORMATION CONTACT.

Background

Although drug use among America's youth has declined in recent years, far too many young people continue to use these harmful substances. Results of the 2004 Monitoring the Future survey, for example, show that the proportions of 8th-, 10th-, and 12th-grade students indicating any use of an illicit drug in the 12 months prior to the survey were 15 percent, 31 percent and 39 percent, respectively.

The consequences of drug use by this vulnerable population are clear. According to the Substance Abuse and Mental Health Services Administration (SAMHSA), Department of Health and Human Services, students using illegal drugs are more likely to have negative attitudes about school and to have engaged in the following delinquent behaviors during the past year: Gotten into a serious fight at school or work, attacked someone with the intent to inflict serious injury, carried a handgun, sold illegal drugs, or had stolen or tried to steal something worth $50 or more. (2003 National Survey on Drug Use and Health) In addition, an analysis of data from the National Household Survey on Drug Abuse over a three year period from 1994-96 found that frequent marijuana users were more likely than less frequent users to report delinquent behaviors such as running away from home, stealing, and cutting classes or skipping school. Clearly, drug abuse both interferes with a student's ability to learn and disrupts the orderly environment necessary for academic achievement.

Steroid abuse is also a problem for young people. The 2004 Monitoring the Future Study shows that 1.9 percent of eighth graders, 2.4 percent of tenth graders, and 3.4 percent of twelfth graders reported using steroids at least once in their lifetime. The Youth Risk Behavior Surveillance System (YRBSS) sponsored by the Centers for Disease Control and Prevention (CDC) reported that 6.1% of all high school students surveyed by CDC in 2003 reported lifetime use of steroid pills/shots without a doctor's prescription. This figure includes 7.1 percent of ninth graders, 6.1 percent of tenth graders, 5.6 percent of eleventh graders, and 4.9 percent of twelfth graders. According to research carried out by the National Institute on Drug Abuse, the consequences for teens of both sexes who use steroids can include severe acne; hormone imbalances; stunted growth; heart attacks; liver cancer (National Institute on Drug Abuse. NIDA Research Report—Steroid Abuse and Addiction Printed 1991. Reprinted 1994, 1996. Revised April, 2000); and extreme mood changes. (National Institute on Drug Abuse. Mind Over Matter: The Brain's Response to Steroids. Printed 1997. Reprinted 1998, 2000)

President Bush, in his January 20, 2004, State of the Union Address, noted: “One of the worst decisions our children can make is to gamble their lives and futures on drugs.” He proposed to “continue our aggressive, community-based strategy to reduce demand for illegal drugs” and stated: “Drug testing in our schools has proven to be an effective part of this effort.”

Further, the Office of National Drug Control Policy (ONDCP), in its 2004 National Drug Control Strategy Update, states that student drug testing programs “advance the Strategy's goal of intervening early in the young person's drug career, using research-based prevention approaches to guide users into counseling or drug treatment, and deterring others from starting in the first place.” ONDCP describes student drug testing as a “remarkable grassroots tool that the Federal Government is moving aggressively to support with research funding as well as support for program design and implementation.”

The Department of Education, through these proposed requirements, priorities, and selection criteria, is encouraging schools and communities to consider the use of mandatory random and voluntary student drug-testing programs as a tool to support other drug-prevention efforts.

Discussion of Requirements, Priorities, and Selection Criteria

We will announce the final requirements, priorities, and selection criteria in a notice in the Federal Register. We will determine the final requirements, priorities, and selection criteria after considering responses to this notice and other information available to the Department. This notice does not preclude us from proposing or using additional requirements, priorities, and selection criteria subject to meeting applicable rulemaking requirements.

Note: This notice does not solicit applications. In any year in which we choose to use one or more of these proposed priorities, we invite applications through a notice in the Federal Register. When inviting applications, we designate the priorities as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Proposed Eligibility Requirements

We propose to limit eligibility for grants to local educational agencies (LEAs) and public and private entities.

Proposed Priorities

Proposed Priority #1: Mandatory Random and Voluntary Student Drug-Testing Programs

Under this proposed priority, we would provide Federal financial assistance to eligible applicants to develop and implement, or expand, school-based mandatory random or voluntary drug-testing programs for students in one or more grades 6 through 12. We propose that any drug-testing program conducted with funds awarded under this priority be limited to one or more of the following:

(1) Students who participate in the school's athletic program;

(2) students who are engaged in competitive, extracurricular, school-sponsored activities; and

(3) a voluntary drug-testing program for students who, along with their parent or guardian, have provided written consent to participate in a random drug-testing program.

Applicants who propose voluntary drug testing for students who, along with their parent or guardian, provide written consent, must not prohibit students who do not consent from participating in school or extracurricular activities.

Proposed Priority #2: National Evaluation of Mandatory Random Student Drug-Testing Programs

Under this proposed priority, we would provide Federal financial assistance to eligible applicants to develop and implement school-based mandatory random drug-testing programs for students in one or more grades 6 through 12. We propose that any drug-testing program conducted with funds awarded under this priority be limited to one or more of the following:

(1) All students who participate in the school's athletic program; and

(2) All students who are engaged in competitive, extracurricular, school-sponsored activities.

Applicants for Priority #2 must propose drug testing in two or more schools that do not have an existing drug-testing program in operation. Each school must include, at a minimum, three or more grades from 9 through 12.

In addition, applicants for Priority #2 must:

(1) Not have a voluntary testing component proposed as part of their program;

(2) provide an assurance that the non-drug-testing schools will not implement any drug-testing program for the duration of the national evaluation; and

(3) agree to participate in all data collection activities that the national evaluation will conduct in all the schools.

At the time of the grant award, the Department of Education's evaluator will randomly assign the schools either to receive the intervention (mandatory random drug testing) or not receive the intervention (no mandatory random drug testing). The evaluator will collect outcome data for both drug testing and non-drug testing schools.

Proposed Application Requirements:

We propose the following requirements for applications submitted under this program:

(1) Applicants may not submit more than one application for a competition conducted under this program.

(2) Applicants may not have been the recipient or beneficiary of a prior grant in 2003 under the Department of Education Demonstration Grants for Student Drug-Testing competition.

(3) Non-LEA applicants must submit a letter of agreement to participate from an LEA. The letter must be signed by the applicant and an authorized representative of the LEA. Letters of support are not acceptable as evidence of the required agreement.

(4) Funds may not be used for the following purposes:

(a) Student drug tests administered under suspicion of drug use;

(b) incentives for students to participate in programs;

(c) drug treatment; or

(d) drug prevention curricula or other prevention programs.

(5) Applicants must:

(a) Identify a target population and demonstrate a significant need for drug testing within the target population;

(b) explain how the proposed drug-testing program will be part of an existing, comprehensive drug prevention program in the schools to be served;

(c) provide a comprehensive plan for referring students who are identified as drug users through the testing program to a student assistance program, counseling, or drug treatment if necessary;

(d) provide a plan to ensure the confidentiality of drug testing results, including a provision that prohibits the party conducting drug tests from disclosing to school officials any information about a student's use of legal medications;

(e) limit the cost of site-based evaluations to no more than 10 percent of total funds requested;

(f) provide written assurances of the following:

(i) That results of student drug tests will not be disclosed to law enforcement officials;

(ii) that results of student drug tests will be destroyed when the student graduates or otherwise leaves the LEA or private school involved;

(iii) that all positive drug tests will be reviewed by a certified medical review officer; and

(iv) that legal counsel has reviewed the proposed program and advised that the program activities do not appear to violate established constitutional principles or State and Federal requirements related to implementing a student drug-testing program.

Proposed Selection Criteria: The Secretary proposes to select from the following those criteria and factors that will be used to evaluate applications under any competition conducted under this program.

Note: The maximum score for all of these criteria will be 100 points. We will inform applicants of the points or weights assigned to each criterion for any future competition in a notice published in the Federal Register or in the application package for the competition.

(1) Need for Project.

(a) The documented magnitude of student drug use in schools to be served by the drug-testing program, including the nature, type, and frequency, if known, of drugs being used by students in the target population; and,

(b) Other evidence of student drug use, such as reports from parents, students, school staff, or law enforcement officials.

(2) Significance.

(a) The extent to which the proposed project includes a thorough, high-quality review of Federal and State laws and relevant Supreme Court decisions related to the proposed student drug-testing program;

(b) The extent to which the applicant demonstrates school and community support for the student drug-testing program and has included a diversity of perspectives such as those of parents, counselors, teachers, and school board members, in the development of the drug-testing program; and

(c) The importance or magnitude of the results or outcomes likely to be attained by the student drug-testing program.

(3) Quality of Project Design.

(a) The extent to which the project will be based on up-to-date knowledge from research and effective practice, including the methodology for the random selection of students to be tested and procedures outlining the collection, screening, confirmation, and review of student drug tests by a certified medical review officer;

(b) The extent to which the applicant identifies the drugs for which it plans to test and includes a rationale for the type of testing device it plans to use for each drug test;

(c) The quality of the applicant's plan to develop and implement a drug-testing program that includes—

(i) Detailed procedures for responding to a positive drug test, including parental notification and referral to student assistance programs, drug education, or formal drug treatment, if necessary; and

(ii) Clear consequences for a positive drug test.

(4) Management Plan.

(a) The extent to which the applicant describes appropriate chain-of-custody procedures for test samples and demonstrates a commitment to use labs certified by the Substance Abuse and Mental Health Services Administration (SAMHSA) to process student drug tests.

(b) The quality of the applicant's plan to ensure confidentiality of drug test results, including limiting the number of school officials who will have access to student drug-testing records.

(5) Quality of Project Evaluation.

(a) The extent to which the methods of evaluation include the use of objective performance measures that are clearly related to the intended outcomes of the project.

(b) The quality of the applicant's plan to collect data on the Government Performance and Results Act (GPRA) performance measure established by the Department for this program and to report these data to the Department.

Note: The Department has established the following GPRA performance measure for the School-Based Student Drug Testing program: the reduction of the incidence of drug use in the past month and past year. The Secretary has set an overall performance target that calls for the prevalence of drug use by students in the target population to decline by five percent annually.

Executive Order 12866

This notice of proposed requirements, priorities, and selection criteria has been reviewed in accordance with Executive Order 12866. Under the terms of the order, we have assessed the potential costs and benefits of this regulatory action.

The potential costs associated with the notice of proposed requirements, priorities, and selection criteria are those we have determined as necessary for administering this program effectively and efficiently.

In assessing the potential costs and benefits—both quantitative and qualitative—of this notice of proposed requirements, priorities, and selection criteria, we have determined that the benefits of the proposed requirements, priorities, and selection criteria justify the costs.

We have also determined that this regulatory action does not unduly interfere with State, local, and tribal governments in the exercise of their governmental functions.

Summary of potential costs and benefits: The potential cost associated with these proposed requirements, priorities, and selection criteria is minimal while the benefits are significant. Grantees may anticipate costs related to completing the application process in terms of staff time, copying, and mailing or delivery.

The primary benefit of these proposed requirements, priorities, and selection criteria is that grantees may reduce student drug use by supporting school-based student drug-testing programs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO) toll free at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.184D Office of Safe and Drug-Free Schools National Programs—Grants for School-Based Student Drug-Testing Programs)

Program Authority: 20 U.S.C. 7131.

Dated: April 18, 2005.
Deborah A. Price,
Assistant Deputy Secretary for Safe and Drug-Free Schools.

[FR Doc. 05-8039 Filed 4-20-05; 8:45 am]

BILLING CODE 4000-01-P